DEPARTMENT OF ENERGY

Federal Energy Regulatory Commission

Combined Notice of Filings

Take notice that the Commission has received the following Natural Gas Pipeline Rate and Refund Report filings:

Filings Instituting Proceedings

Docket Numbers: RP15-1248-000.

Applicants: Cimarron River Pipeline, LLC.

Description: 2015 Cash Out Report of Cimarron River Pipeline, LLC under RP15-1248.

Filed Date: 9/1/15.

Accession Number: 20150901-5272.

Comments Due: 5 p.m. ET 9/14/15.

Docket Numbers: RP15-1249-000.

Applicants: Dauphin Island Gathering Partners.

Description: 2015 Cash Out Report of Dauphin Island Gathering Partners under RP15-1249.

Filed Date: 9/1/15.

Accession Number: 20150901-5273.

Comments Due: 5 p.m. ET 9/14/15.

Docket Numbers: RP15-1259-000.

Applicants: Tennessee Gas Pipeline Company, L.L.C.

Description: § 4(d) Rate Filing: Volume No. 2—Neg. Rate Agrmts with Cargill, Inc. et al. to be effective 11/1/2015.

Filed Date: 9/4/15.

Accession Number: 20150904-5373.

Comments Due: 5 p.m. ET 9/16/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-755-001.

Applicants: Cheyenne Plains Gas Pipeline Company, L.

Description: Compliance filing Order No. 801 System Map Compliance Update Filing to be effective 5/1/2015.

Filed Date: 9/4/15.

Accession Number: 20150904-5345.

Comments Due: 5 p.m. ET 9/14/15.

Docket Numbers: RP15-756-001.

Applicants: Colorado Interstate Gas Company, L.L.C.

Description: Compliance filing Order No. 801 System Map Compliance Update Filing to be effective 5/1/2015.

Filed Date: 9/4/15.

Accession Number: 20150904-5343.

Comments Due: 5 p.m. ET 9/14/15.

Docket Numbers: RP15-757-001.

Applicants: Wyoming Interstate Company, L.L.C.

Description: Compliance filing Order No. 801 System Map Compliance Update Filing to be effective 5/1/2015.

Filed Date: 9/4/15.

Accession Number: 20150904-5334.

Comments Due: 5 p.m. ET 9/14/15.

Docket Numbers: RP15-758-001.

Applicants: Young Gas Storage Company, Ltd.

Description: Compliance filing Order No. 801 System Map Compliance Update Filing to be effective 5/1/2015.

Filed Date: 9/4/15.

Accession Number: 20150904-5328.

Comments Due: 5 p.m. ET 9/14/15.

Docket Numbers: RP15-760-001.

Applicants: Ruby Pipeline, L.L.C.

Description: Compliance filing Order No. 801 System Map Compliance Update Filing to be effective 5/1/2015.

Filed Date: 9/4/15.

Accession Number: 20150904-5340.

Comments Due: 5 p.m. ET 9/14/15.

Docket Numbers: RP15-761-001.

Applicants: El Paso Natural Gas Company, L.L.C.

Description: Compliance filing Order No. 801 System Map Compliance Update Filing to be effective 5/1/2015.

Filed Date: 9/4/15.

Accession Number: 20150904-5352.

Comments Due: 5 p.m. ET 9/14/15.

Docket Numbers: RP15-762-001.

Applicants: Mojave Pipeline Company, L.L.C.

Description: Compliance filing Order No. 801 System Map Compliance Update Filing to be effective 5/1/2015.

Filed Date: 9/4/15.

Accession Number: 20150904-5367.

Comments Due: 5 p.m. ET 9/14/15.

Docket Numbers: RP15-763-001.

Applicants: TransColorado Gas Transmission Company L.

Description: Compliance filing Order No. 801 System Map Compliance Update Filing to be effective 5/1/2015.

Filed Date: 9/4/15.

Accession Number: 20150904-5326.

Comments Due: 5 p.m. ET 9/14/15.

Docket Numbers: RP15-764-001.

Applicants: Sierrita Gas Pipeline LLC.

Description: Compliance filing Order No. 801 System Map Compliance Update Filing to be effective 5/1/2015.

Filed Date: 9/4/15.

Accession Number: 20150904-5332.

Comments Due: 5 p.m. ET 9/14/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2015.
Nathaniel J. Davis, Sr.,
Deputy Secretary.

[FR Doc. 2015-23020 Filed 9-11-15; 8:45 am]

BILLING CODE 6717-01-P